ENVIRONMENTAL PROTECTION AGENCY

40 CFR Part 62

[EPA-R05-OAR-2006-0560; FRL-8267-4]

Approval and Promulgation of Air Implementation Plans; Ohio; Rules to Control Emissions From Hospital, Medical, and Infectious Waste Incinerators

AGENCY: Environmental Protection Agency (EPA).

ACTION: Proposed rule.

SUMMARY: The EPA is proposing to approve, with exceptions noted below, a State plan submitted by Ohio concerning criteria pollutant and toxic emissions from Hospital, Medical and Infectious Waste Incinerators (HMIWI) in the State. EPA is proposing to approve all other items requested in Ohio's letter of October 18, 2005, including limits for a variety of emissions from HMIWI units including mercury, cadmium, lead, hydrogen chloride, and dioxin and criteria pollutants. Ohio prepared a plan based on CAA sections 111(d) and 129 for existing hospital, medical and infectious waste incinerators and asked that it be reviewed and approved as a revision to the State plan. The State's HMIWI plan sets out requirements for affected units at least as stringent as the EPA requirements entitled “Emission Guidelines (EG) and Compliance Times for Hospital/Medical/ Infectious Waste Incinerators” published in the Federal Register dated September 15, 1997. For approval, the State plan must include requirements for emission limits at least as protective as those requirements stated in the emission guideline. The rules in the plan apply to existing sources only for which construction commenced on or before June 20, 1996. New sources constructed after this date are covered by a Federal new source performance standard. The Ohio rules, contained in the plan, were proposed on March 22, 2002, and a public hearing was held on April 29, 2002. The rules became effective in Ohio on March 23, 2004. Plans affecting this source category were due from States with HMIWI subject to the emission guidelines on September 15, 1998. Ohio missed the submittal deadline and became subject to the Federal Plan on August 15, 2000, (65 FR 49868). We are proposing to approve the Ohio plan because we believe it meets the requirements of the EPA emission guideline affecting hospital incinerators.

Any party interested in commenting on EPA's proposed approval should do so within the timeframe noted below.

DATES: Comments must be received on or before February 9, 2007.

ADDRESSES: Submit your comments, identified by Docket ID No. EPA-R05-OAR-2006-0560 by one of the following methods:

• http://www.regulations.gov: Follow the on-line instructions for submitting comments.

• E-mail: mooney.john@epa.gov.

• Fax: (312) 886-5824.

• Mail: John M. Mooney, Chief, Criteria Pollutant Section, Air Programs Branch (AR-18J), U.S. Environmental Protection Agency, Region 5, 77 West Jackson Boulevard, Chicago, Illinois 60604.

• Hand delivery: John M. Mooney, Chief, Criteria Pollutant Section, Air Programs Branch (AR-18J), U.S. Environmental Protection Agency, Region 5, 77 West Jackson Boulevard, Chicago, Illinois 60604. Such deliveries are only accepted during the Regional Office normal hours of operation. The Regional Office official hours of business are Monday through Friday, 8:30 a.m. to 4:30 p.m. excluding Federal holidays.

Instructions: Direct your comments to Docket ID No. EPA-R05-OAR-2006-0560. EPA's policy is that all comments received will be included in the public docket without change and may be made available on line at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the electronic docket are listed in the http://www.regulations.gov/ index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone John Paskevicz, Engineer, at (312) 886-6084 before visiting the Region 5 office.

FOR FURTHER INFORMATION CONTACT: John Paskevicz, Engineer, Criteria Pollutant Section, Air Programs Branch (AR-18J), EPA Region 5, 77 West Jackson Boulevard, Chicago, Illinois 60604, (312)353-8656, or via e-mail at paskevicz.john@epa.gov.

SUPPLEMENTARY INFORMATION: Throughout this document whenever “we,” “us,” or “our” are used we mean the EPA. The SUPPLEMENTARY INFORMATION is arranged as follows:

I. What Should I Consider as I Prepare My Comments for EPA?

II. Does This Action Apply to Me?

III. Did the State Provide an Opportunity for Public Review?

IV. Does the State Plan Meet the Requirements of the EPA Model Rule and Emission Guideline?

V. What Action Is EPA Taking Today?

VI. Statutory and Executive Order Reviews

SUPPLEMENTARY INFORMATION:

I. What Should I Consider as I Prepare My Comments for EPA?

When submitting comments, remember to:

1. Identify the rulemaking by docket number and other identifying information (subject heading, Federal Register date and page number).

2. Follow directions—The agency may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of vulgarity or personal threats.

8. Make sure to submit your comments by the comment period deadline identified.

II. Does This Action Apply to Me?

Ohio Administrative Code (OAC) 3745-75, Hospital/Medical/ Infectious (HMI) Waste Incinerator rules apply to existing (prior to June 1996) incinerator units which burn waste generated at hospitals. Waste (hospital waste and medical/infectious waste) is defined in the State rule similar to the definitions found in the EPA emission guideline, dated September 15, 1997. These State rules do not apply to new units. New units are subject to Federal new source performance standards issued in September 1997. Some existing units in this rule may be exempt from the requirement if these units co-fire with other fuels or municipal waste where the HMI waste is less than a specific fraction of the total waste stream. This action applies to you if you own and/or operate an existing hospital, medical, infectious waste incinerator in the State of Ohio defined in the “applicability” portion of the Ohio rule OAC 3745-75-01. Some exemptions are available in the State rule and these exemptions are consistent with the Federal plan requirements published in the Federal Register on August 15, 2000. 65 FR 49881.

III. Did the State Provide an Opportunity for Public Review?

The Emission Guidelines (EG) and Compliance Times for Hospital Medical and Infectious Waste Incinerators were published in the Federal Register on September 15, 1997. Plans affecting HMIWI sources subject to the EG were due from the States to EPA on September 15, 1998. Ohio did not meet this deadline and HMIWI sources in the State became subject to a Federal plan on August 15, 2000, (65 FR 49868.) The Ohio rules were made public and proposed on March 22, 2002, and a public hearing was held in Columbus, Ohio on April 29, 2002. No members of the public provided public testimony at the hearing. There were, however, several public comments from industry and other State agencies on the new rules. The State's rules became effective on March 23, 2004. The plan containing the rules was submitted to EPA on October 18, 2005, and set out requirements for affected units at least as stringent as those in 40 CFR part 60, subpart Ce, known as “Emission Guidelines (EG) and Compliance Times for Hospital/Medical/Infectious Waste Incinerators.”

EPA finds that the State plan includes requirements for emission limits at least as protective as the requirements stated in the emission guideline document. The State plan follows the requirements of the model rule with one exception. The State reports in its emission inventory that there are no small rural (HMIWI) incinerators in the State, as defined in the Emission Guideline (noted above) and the Federal Plan (40 CFR 62.14490), and therefore Ohio did not include this source size in the State plan. A “small rural HMIWI” is defined as a small HMIWI which is located more than 50 miles from the boundary of the nearest Standard Metropolitan Statistical Area and which burns less than 2,000 pounds per week of hospital waste and medical waste. Citizens of Ohio, who believe this may not be the case for any facility they are aware of, are asked to comment to this effect per instructions noted above.

IV. Does the State Plan Meet the Requirements of the EPA Model Rule and Emission Guideline?

The State plan incorporates elements of the model rule and elements of the Federal emission guideline organized in a format which meets State administrative requirements. As noted above, the State emissions inventory of all HMIWI sources in the State shows that there are no small rural HMIWI units in Ohio. The State does not include this source size in the rule being proposed for approval. Citizens are asked to comment on this if they have information to the contrary.

The State rule addresses all of the emission limits of the named pollutants in the Federal Plan. The State rule also sets emission limits for pollutants not part of the Federal emission guideline or the Federal Plan. The State includes in its rule limits on arsenic, beryllium, chromium, and nickel. EPA will not propose approval, or take any action on these limits because these pollutants are not part of the Federal HMIWI plan or EG. EPA does not have legal authority to rule on these other pollutants in the context of the Federal HMIWI emission guideline document and the Federal Plan and therefore will not address these pollutants in this proposed approval.

V. What Action Is EPA Taking Today?

The EPA is proposing to approve, with some exceptions noted above, the Ohio plan which will reduce emissions from incinerators in order for the State to continue to protect the health of the people of Ohio. EPA is not acting on the following portions of the Ohio Rule 3745-75-02(I)(1) (arsenic), -02(I)(2) (beryllium), -02(I)(4) (chromium), and -02(I)(7) (nickel) because the emission limits noted here are not part of the EPA EG document and approval of these emission limits for the pollutants noted would exceed the EPA's authority. EPA is proposing to approve all other items requested in Ohio's letter of October 18, 2005, including limits for a variety of emissions from HMIWI units including mercury, cadmium, lead, hydrogen chloride, dioxin and criteria pollutants.

VI. Statutory and Executive Order Reviews

Executive Order 12866: Regulatory Planning and Review

Under Executive Order 12866 (58 FR 51735, September 30, 1993), this action is not a “significant regulatory action” and therefore is not subject to review by the Office of Management and Budget.

Paperwork Reduction Act

This proposed rule does not impose an information collection burden under the provisions of the Paperwork Reduction Act of 1995 (44 U.S.C. 3501 et seq.).

Regulatory Flexibility Act

This proposed action merely proposes to approve state law as meeting Federal requirements and imposes no additional requirements beyond those imposed by state law. Accordingly, the Administrator certifies that this proposed rule will not have a significant economic impact on a substantial number of small entities under the Regulatory Flexibility Act (5 U.S.C. 601 et seq.).

Unfunded Mandates Reform Act

Because this rule proposes to approve pre-existing requirements under state law and does not impose any additional enforceable duty beyond that required by state law, it does not contain any unfunded mandate or significantly or uniquely affect small governments, as described in the Unfunded Mandates Reform Act of 1995 (Pub. L. 104-4).

Executive Order 13132: Federalism

This action also does not have federalism implications because it does not have substantial direct effects on the states, on the relationship between the national government and the states, or on the distribution of power and responsibilities among the various levels of government, as specified in Executive Order 13132 (64 FR 43255, August 10, 1999). This action merely proposes to approve a state rule implementing a federal standard, and does not alter the relationship or the distribution of power and responsibilities established in the Clean Air Act.

Executive Order 13175: Consultation and Coordination With Indian Tribal Governments

This proposed rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13045: Protection of Children From Environmental Health and Safety Risks

This proposed rule also is not subject to Executive Order 13045 “Protection of Children from Environmental Health Risks and Safety Risks” (62 FR 19885, April 23, 1997), because it is not economically significant.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

National Technology Transfer Advancement Act

Section 12(d) of the National Technology Transfer and Advancement Act of 1995 (NTTAA), 15 U.S.C. 272, requires Federal agencies to use technical standards that are developed or adopted by voluntary consensus to carry out policy objectives, so long as such standards are not inconsistent with applicable law or otherwise impractical. In reviewing SIP submissions, EPA's role is to approve state choices, provided that they meet the criteria of the Clean Air Act. Absent a prior existing requirement for the state to use voluntary consensus standards, EPA has no authority to disapprove a SIP submission for failure to use such standards, and it would thus be inconsistent with applicable law for EPA to use voluntary consensus standards in place of a program submission that otherwise satisfies the provisions of the Clean Air Act. Therefore, the requirements of section 12(d) of the NTTA do not apply.

List of Subjects in 40 CFR Part 62

Environmental protection, Air pollution control, Nitrogen dioxide, Particulate matter, Carbon monoxide, Reporting and recordkeeping requirements.

Dated: December 27, 2006.
Steve Rothblatt,
Acting Regional Administrator, Region 5.

[FR Doc. E7-178 Filed 1-9-07; 8:45 am]

BILLING CODE 6560-50-P